DEPARTMENT OF COMMERCE

Foreign-Trade Zones Board

[Order No. 1615]

Expansion and Reorganization of Foreign-Trade Zone 147, Reading, Pennsylvania Area

Pursuant to its authority under the Foreign-Trade Zones (FTZ) Act of June 18, 1934, as amended (19 U.S.C. 81a-81u), the Foreign-Trade Zones Board (the Board) adopts the following Order:

Whereas, the Foreign-Trade Zone Corporation of Southern Pennsylvania, grantee of Foreign-Trade Zone No. 147, submitted an application to the Board for authority to expand and reorganize FTZ 147 by deleting Site 4—Parcels A and C (632 acres total) and adding four additional sites (Sites 16-19) in Franklin and Cumberland Counties, Pennsylvania, adjacent to the Harrisburg Customs and Border Protection port of entry (FTZ Docket 35-2008, filed 5/27/2008);

Whereas, notice inviting public comment was given in the Federal Register (73 FR 31812, 6/4/2008) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand and reorganize FTZ 147 is approved, subject to the Act and the Board's regulations, including Section 400.28, subject to the Board's standard 2,000-acre activation limit for the overall general-purpose zone project, and further subject to a sunset provision that would terminate authority on May 31, 2014, for Sites 16-19 where no activity has occurred under FTZ procedures before that date.

Signed at Washington, DC, this 29th day of May 2009.

Ronald K. Lorentzen,
Acting Assistant Secretary of Commerce for Import Administration, Alternate Chairman, Foreign-Trade Zones Board.
Attest:
Andrew McGilvray,
Executive Secretary.

[FR Doc. E9-14245 Filed 6-17-09; 8:45 am]

BILLING CODE 3510-DS-S